DEPARTMENT OF ENERGY

Federal Energy Regulatory Commission

Notice of Application for Temporary Amendment of License and Soliciting Comments, Motions To Intervene, and Protests

May 16, 2006.

Take notice that the following hydroelectric application has been filed with the Commission and is available for public inspection:

a. Type of Application: Request for authorization for a temporary for a temporary change in water surface elevation limits for the upper reservoir and an increase in the maximum daily generation limit under certain emergency conditions as determined by ISO New England Inc. during the period June 3, through September 30, 2006, for dealing with potential capacity and energy shortages during the summer.

b. Project No.: 2485-033.

c. Date Filed: May 12, 2006.

d. Applicant: Northeast Generation Company (NGC).

e. Name of Project: Northfield Mountain Pumped Storage Hydroelectric Project.

f. Location: The project is located on the east side of the Connecticut River, in the towns of Northfield and Erving, in Franklin County, Massachusetts. The project does not utilize federal or tribal lands.

g. Filed pursuant to: 18 CFR 4.201.

h. Applicant Contact: Mr. William J. Nadeau, Vice President and Chief Operating Officer, Northeast Generation Services Company, 273 Dividend Road, Rocky Hill, Connecticut 06067, (860) 665-5315 with copies of all correspondence and communications to:

Mr. John Howard, Station Manager, Northfield Mountain Station, 99 Millers Falls Road, Northfield, Massachusetts 01360, (413) 659-4489; and

Ms. Catherine E. Shively, Senior Counsel, Public, Notrheast Utilities Service Company, P.O. Box 330, Manchester, New Hampshire 03105, (603) 634-2326.

i. FERC Contact: Any questions on Vedula Sarma (202) 502-6190, or vedula.sarma@ferc.gov.

j. Deadline for filing motions to intervene, protests, comments: June 1, 2006.

k. Description of Proposed Action: NGC seeks temporary authorization to modify the upper reservoir's upper and lower water service elevation limits from 1000.5 and 938 feet, to 1004.5 and 920 feet, respectively, only under certain ISO-NE emergency operating conditions from June 3, through September 30, 2006. According to NGC approval of changes in the water surface elevations would result in an increase in the maximum daily generation from 8,475 megawatthours (MWh) to 10,645 MWh. NGC states that it will not commence operations under the temporary amendment until the latter of June 3 or until data collected at Cabot Station, Turners Falls Project indicate that the Atlantic Salmon smolt migration has ended and guide net has been removed.

l. Locations of Applications: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call toll-free 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-2485-028). All documents (original and eight copies) should be filed with: Magalie R. Salas, Secretary, Federal Energy Regulatory Commission, 888 First Street, NE., Washington, DC 20426. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-7886 Filed 5-23-06; 8:45 am]

BILLING CODE 6717-01-P